DEPARTMENT OF HOMELAND SECURITY

Coast Guard

[Docket No. USCG-2013-0642]

Public Workshop Related to the International Maritime Organization's Development of a Mandatory Code for Ships Operating in Polar Waters

AGENCY: Coast Guard, DHS.

ACTION: Notice of meeting; request for comments.

SUMMARY: The United States Coast Guard will hold a public workshop in Washington, DC on topics related to the development of a mandatory code for ships operating in polar waters by the International Maritime Organization (IMO Polar Code). Various safety topics will be discussed including design, equipment, and operational requirements. This workshop is intended to be an interactive exchange of information between policymakers, industry experts, and interested members of the public.

DATES: The public workshop will be held for two days beginning Thursday, August 22, 2013 at 9 a.m., Eastern Time and ending Friday, August 23, 2013 at 4 p.m., Eastern Time. The daily meeting schedule will be from 9 a.m. until 4 p.m. This workshop is open to the public. See ADDRESSES for more information about submitting comments to the docket.

ADDRESSES: The public workshop will be held at the United States Coast Guard Headquarters Transpoint Building, Room 2501, 2100 Second Street Southwest, Washington, DC 20593, approximately 1 mile from the Waterfront-SEU Metro Station. Due to building security requirements, each visitor must present two forms of government-issued photo identification in order to gain entrance to the building.

You may submit written comments identified by docket number USCG-2013-0642 before or after the meeting using any one of the following methods:

(1) http://www.regulations.gov

(2) Fax: 202-493-2251

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. Our online docket is available on the Internet at http://www.regulations.gov under docket number USCG-2013-0642.

FOR FURTHER INFORMATION CONTACT: If you have questions concerning the workshop, please call or email Lieutenant Andrew Gibbons, U.S. Coast Guard; telephone 202-372-1485, email Andrew.T.Gibbons@uscg.mil. If you have questions on viewing or submitting material to the docket, call Ms. Barbara Hairston, Program Manager, Docket Operations, telephone 202-366-9826.

SUPPLEMENTARY INFORMATION:

Public Participation and Request for Comments

If you are interested in formally presenting information on a topic on the agenda please contact Lieutenant Andrew Gibbons at the telephone number or email address indicated under the FOR FURTHER INFORMATION CONTACT section of this notice. Comments submitted to the docket and informal public comments during the workshop are also encouraged. All comments and presentations received will be posted without change to http://www.regulations.gov and will include any personal information you have provided.

A. Submitting Comments

If you submit a comment, please include the docket number for this notice (USCG-2013-0642) and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2013-0642” in the “Search” box. Click “Search,” find this notice in the list of Results, and then click on the corresponding “Comment Now” box. If you submit your comments by mail or hand delivery, submit them in an unbound format, no larger than 8½ by 11 inches, suitable for copying and electronic filing. If you submit comments by mail and would like to know that they reached the Facility, please enclose a stamped, self-addressed postcard or envelope.

B. Viewing Comments and Documents

To view comments, as well as documents mentioned in this notice as being available in the docket, go to http://www.regulations.gov and insert “USCG-2013-0642” in the “Search” box. Click “Search” and use the filters on the left side of the page to highlight “Public Submissions” or other document types. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Workshop

The Coast Guard will hold a public workshop regarding various safety topics including design, equipment, and operational requirements related to the development of the IMO Polar Code. For more information regarding the dates and times of the public workshop please see the DATES section above.

This workshop is intended to be an interactive exchange of information between policymakers, industry experts, and interested members of the public. The public workshop scope will include current regulations, additional risks and hazards unique to the Arctic and Antarctic regions, draft provisions in the IMO Polar Code, industry best practices, and any additional safeguards to be considered. The primary topics that will be considered at the public meeting include:

• General Overview of the IMO Polar Code;

• Ship Categories/Polar Class Rules;

• Operational Requirements including a Polar Water Operations Manual, Voyage Planning, and Contingency planning;

• Life-saving Equipment;

• Low Temperature Impacts on Design/Equipment.

Procedural

Please note that the workshop has a limited number of seats and may close early if all business is finished.

Members of the public may attend this workshop up to the seating capacity of the room. To facilitate the security process related to building access, or to request reasonable accommodation, those who plan to attend should contact the meeting coordinator, Lieutenant Andrew Gibbons, at the telephone number or email address indicated under the FOR FURTHER INFORMATION CONTACT section of this notice, or in writing at Commandant (CG-ENG-3), U.S. Coast Guard, 2100 Second Street SW., Washington, DC 20593-7126, not later than Friday, August 16, 2013. We may not be able to accommodate requests made after August 16, 2013. Please note that due to building security requirements, each visitor must present two valid, government-issued photo identifications in order to gain entrance to the Coast Guard Headquarters building. The Coast Guard Headquarters building is accessible by taxi and privately owned conveyance (public transportation is not generally available). However, public parking in the vicinity of the building is extremely limited.

Members of the public are encouraged to participate and join in discussions, subject to the discretion of the moderator. If you bring written comments to the meeting, you may submit them to Coast Guard personnel specified at the meeting to receive written comments. These comments will be submitted to our online public docket. All comments received will be posted without change to http://www.regulations.gov and will include any personal information you have provided.

Information on Services for Individuals With Disabilities

For information on facilities or services for individuals with disabilities or to request special assistance at the meeting, contact Lieutenant Andrew Gibbons at the telephone number or email address indicated under the FOR FURTHER INFORMATION CONTACT section of this notice.

Dated: July 19, 2013.
F.J. Sturm,
Acting Director of Commercial Regulations and Standards, U.S. Coast Guard.

[FR Doc. 2013-17914 Filed 7-24-13; 8:45 am]

BILLING CODE 9110-04-P